NATIONAL SCIENCE FOUNDATION

Sunshine Act Meeting Notice

AGENCY HOLDING MEETING: National Science Foundation, National Science Board, Task Force on National Workforce Policies for Science & Engineering.

DATE AND TIME: March 3, 2003, 12 p.m.-1 p.m.; Open session.

PLACE: The National Science Foundation, Stafford One Building, 4201 Wilson Boulevard, Room 120, Arlington, VA 22230.

STATUS: This meeting will be open to the public.

MATTERS TO BE CONSIDERED: Monday, March 3, 2003; open session.

Open Session (12 p.m. to 1 p.m.)

—Discussion of comments on the draft report of the NSB/EHR Task Force on National Workforce Policies for S&E.

FOR FURTHER INFORMATION CONTACT: Gerard Glaser, Executive Officer, NSB, (703) 292-7000, http://www.nsf.gov/nsb.

Gerard Glaser,
Executive Officer.

[FR Doc. 03-5007 Filed 2-27-03; 12:17 pm]

BILLING CODE 7555-01-M